DEPARTMENT OF ENERGY

Federal Energy Regulatory Commission

[Docket No. AD09-4-000, Docket No. ER04-691-091, Docket No. ER09-411-000, Docket No. ER09-506-000, Docket No. NJ09-1-000, Docket Nos. ER08-637-000, ER08-637-001, ER08-637-004, ER08-637-005, Docket Nos. ER08-1169-001, ER08-1169-002, Docket Nos. EL07-86-003, EL07-86-004, EL07-86-005, EL07-86-006, EL07-86-007, EL07-86-008, Docket Nos. EL07-88-003, EL07-88-004, EL07-88-005, EL07-88-006, EL07-88-007, EL08-88-008, Docket Nos. EL07-92-003, EL07-92-004, EL07-92-005, EL07-92-006, EL07-92-007, EL07-92-008]

Integrating Renewable Resources Into the Wholesale Electric Grid: Midwest Independent Transmission System Operator, Inc., Midwest Independent Transmission System Operator, Inc., Midwest Independent Transmission System Operator, Inc., Bonneville Power Administration, Midwest Independent Transmission System Operator, Inc. and Transmission Owners of the Midwest Independent Transmission System Operator, Inc., Midwest Independent Transmission System Operator, Inc.; Ameren Services Company, Northern Indiana Public Service Company v. Midwest Independent Transmission System Operator, Inc., Great Lakes Utilities, Indiana Municipal Power Agency, Missouri Joint Municipal Electric Utility Commission, Missouri River Energy Services, Prairie Power, Inc., Southern Minnesota Municipal Power Agency, Wisconsin Public Power Inc. v. Midwest Independent Transmission System Operator, Inc., Wabash Valley Power Association, Inc. v. Midwest Independent Transmission System Operator, Inc.; Supplemental Notice of Technical Conference

February 27, 2009.

As announced in the Notice of Technical Conference issued on February 4, 2009 and the Second Notice of Technical Conference issued on February 20, 2009, a technical conference will be held on Monday, March 2, 2009, from 9 a.m. to 5 p.m. (est), in the Commission Meeting Room of the Federal Energy Regulatory Commission, 888 First Street, NE., Washington, DC 20426. Members of the Commission will attend and participate in the conference.

Additional docket numbers have been included in the caption above because issues in these proceedings may be related to issues arising during the course of discussions in the technical conference.

The Commission welcomes industry comments on this subject. The deadline for comments under this docket is April 30, 2009.

A free Webcast of the meeting/conference is available through www.ferc.gov. Anyone with Internet access who desires to listen to this event can do so by navigating to www.ferc.gov's Calendar of Events and locating this event in the Calendar. The event will contain a link to its Webcast. The Capitol Connection provides technical support for the Webcasts and offers the option of listening to the meeting via phone-bridge for a fee. If you have any questions, visit www.CapitolConnection.org or call 703-993-3100.

Transcripts of the conference will be available immediately for a fee from Ace Reporting Company (202-347-3700 or 1-800-336-6646). They will be available for free on the Commission's eLibrary system and on the Calendar of Events approximately one week after the conference.

Commission conferences are accessible under section 508 of the Rehabilitation Act of 1973. For accessibility accommodations, please send an e-mail to accessibility@ferc.gov or call toll free 1-866-208-3372 (voice) or (202) 208-1659 (TTY), or send a FAX to 202-208-2106 with the required accommodations.

For more information about this conference, please contact: Sarah McKinley at sarah.mckinley@ferc.gov, (202) 502-8368.

Kimberly D. Bose,
Secretary.

[FR Doc. E9-4721 Filed 3-4-09; 8:45 am]

BILLING CODE 6717-01-P